DEPARTMENT OF ENERGY

Federal Energy Regulatory Commission

[Docket No. RP04-509-001]

Northwest Pipeline Corporation; Notice of Compliance Filing

October 19, 2004.

Take notice that on October 14, 2004, Northwest Pipeline Corporation (Northwest) tendered for filing as part of its FERC Gas Tariff, Third Revised Volume No. 1, Substitute Seventh Revised Sheet No. 275 and Original Sheet No. 275-A, to be effective October 1, 2004.

Northwest states that the purpose of this filing is to comply with the Commission's September 30, 2004 Order in Docket No. RP04-509-000 by filing revised tariff sheets setting forth specific times of day that Northwest will post prearranged deals for available capacity for a primary term of 31 days or less subject to one hour bidding.

Northwest states that a copy of this filing has been served upon each person designated on the official service list compiled by the Secretary in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2825 Filed 10-22-04; 8:45 am]

BILLING CODE 6717-01-P